DEPARTMENT OF THE INTERIOR

Bureau of Indian Affairs

Campo Band of Mission Indians Liquor Control Ordinance, Campo, CA

AGENCY: Bureau of Indian Affairs, Interior.

ACTION: Notice.

SUMMARY: This notice publishes the Campo Band of Mission Indians Liquor Control Ordinance. The ordinance regulates the control of, the possession of, and the sale of liquor on the Campo Band of Mission Indians trust lands, and is in conformity with the laws of the State of California, where applicable and necessary. Although the ordinance was adopted on March 26, 2000, it does not become effective until published in the Federal Register because failure to comply with the ordinance may result in criminal charges.

DATES: This ordinance is effective on December 19, 2000.

FOR FURTHER INFORMATION CONTACT: Kaye Armstrong, Office of Tribal Services, 1849 C Street, NW, MS-4631-MIB, Washington, DC 20240-4001; telephone (202) 208-4400.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transaction in Indian country. The Campo Band of Mission Indians Liquor Control Ordinance, Resolution No. 26-03-00-01, was duly adopted by the Campo General Council on March 26, 2000. The Campo Band of Mission Indians, in furtherance of its economic and social goals, has taken positive steps to regulate retail sales of alcohol and use revenues to combat alcohol abuse and its debilitating effects among individuals and family members within the Campo Band of Mission Indians.

This notice is being published in accordance with the authority delegated by the Secretary of the Interior to the Assistant Secretary—Indian Affairs by 209 Departmental Manual 8.

I certify that by Resolution No. 26-03-00-01, the Campo Band of Mission Indians Liquor Control Ordinance was duly adopted by the Campo Band General Council on March 26, 2000.

Dated: December 11, 2000.
Kevin Gover,
Assistant Secretary—Indian Affairs

The Campo Band of Mission Indians Liquor Control Ordinance, Resolution No. 26-03-00-01, reads as follows:

Campo Liquor Control Ordinance

Be It Enacted by the General Council of the Campo Indian Reservation, Campo Band of Mission Indians, sometimes referred to as the Campo Band of Mission Indians (hereinafter, “Campo Band”) as follows:

Article 1: Name

This ordinance shall be known as the Campo Liquor Control Ordinance.

Article 2: Authority

This ordinance is enacted pursuant to the Act of August 15, 1953 (Pub. L. 83-277, 67 Stat. 588, 18 U.S.C. 1161) and Article IV of the Constitution and Bylaws of the Campo Band of Mission Indians.

Article 3: Purpose

The purpose of this ordinance is to regulate and control the possession and sale of liquor on the Campo Indian Reservation, and to permit alcohol sales by tribally owned and operated enterprises, and at tribally approved special events, for the purpose of the economic development of the Campo Band. The enactment of a tribal ordinance governing liquor possession and sales on the Campo Indian Reservation will increase the ability of tribal government to control Reservation liquor distribution and possession, and will provide an important source of revenue for the continued operation and strengthening of the tribal government, the economic viability of tribal enterprises, and the delivery of tribal government services. This Liquor Control Ordinance is in conformity with the laws of the State of California as required by 25 U.S.C. § 1161, and with all applicable federal laws.

Article 4: Effective Date

This ordinance shall be effective as of the date of its publication in the Federal Register.

Article 5: Possession of Alcohol

The introduction or possession of alcoholic beverages shall be lawful within the exterior boundaries of the Campo Indian Reservation; provided that such introduction or possession is in conformity with the laws of the State of California.

Article 6: Sales of Alcohol

(1) The sale of alcoholic beverages by business enterprises owned by and subject to the control of the Campo Band shall be lawful within the exterior boundaries of the Campo Indian Reservation; provided that such sales are in conformity with the laws of the State of California.

(2) The sale of alcoholic beverages by the drink at special events authorized by the Campo Band shall be lawful within the exterior boundaries of the Campo Indian Reservation; provided that such sales are in conformity with the laws of the State of California and with prior approval by Resolution of the General Council of the Campo Band.

Article 7: Age Limits

The drinking age within the Campo Indian Reservation shall be the same as that of the State of California, which is currently 21 years. No person under the age of 21 years shall purchase, possess or consume any alcoholic beverage. At such time, if any, as California Business and Profession Code § 25658, which sets the drinking age for the State of California, is repealed or amended to raise or lower the drinking age within California, this Article shall automatically become null and void, and the Tribal Council shall be empowered to amend this Article to match the age limit imposed by state law.

Article 8: Civil Penalties

The Campo Band, through its Tribal Council and duly authorized security personnel, shall have the authority to enforce this ordinance by confiscating any liquor sold, possessed or introduced in violation hereof. The Tribal Council shall be empowered to sell such confiscated liquor for the benefit of the Campo Band, and to develop and approve such regulations as may become necessary for enforcement of this ordinance.

Article 9: Prior Inconsistent Enactments

Any prior tribal laws, resolutions or ordinances which are inconsistent with this ordinance are hereby repealed to the extent they are inconsistent with this ordinance. An ordinance legalizing the introduction, sale, or possession of intoxicants on the Campo Indian Reservation, California, was published in the Federal Register of February 6, 1968 (33 FR 2612).

Article 10: Sovereign Immunity

Nothing contained in this ordinance is intended to, nor does in any way, limit, alter, restrict, or waive the sovereign immunity of the Campo Development Corporation, from unconsented suit or action of any kind.

Article 11: Severability

If any provision of this ordinance is found by any agency or court of competent jurisdiction to be unenforceable, the remaining provisions shall be unaffected thereby.

Article 12: Amendment

This ordinance may be amended by majority vote of the General Council of the Campo Band at a duly noticed General Council meeting.

[FR Doc. 00-32317 Filed 12-18-00; 8:45 am]

BILLING CODE 4310-02-P